SMALL BUSINESS ADMINISTRATION

[Disaster Declaration #16033 and #16034; Oregon Disaster Number OR-00099]

Presidential Declaration of a Major Disaster for Public Assistance Only for the State of Oregon

AGENCY: U.S. Small Business Administration.

ACTION: Notice.

SUMMARY: This is a Notice of the Presidential declaration of a major disaster for Public Assistance Only for the State of Oregon (FEMA-4452-DR), dated 07/09/2019.

Incident: Severe Storms, Flooding, Landslides, and Mudslides.

Incident Period: 04/06/2019 through 04/21/2019.

DATES: Issued on 07/09/2019.

Physical Loan Application Deadline Date: 09/09/2019.

Economic Injury (EIDL) Loan Application Deadline Date: 04/09/2020.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 07/09/2019, Private Non-Profit organizations that provide essential services of a governmental nature may file disaster loan applications at the address listed above or other locally announced locations.

The following areas have been determined to be adversely affected by the disaster:

Primary Counties: Curry, Douglas, Grant, Linn, Umatilla, Wheeler.

The Interest Rates are:

| Percent
For Physical Damage:
Non-Profit Organizations with Credit Available Elsewhere | 2.750
Non-Profit Organizations without Credit Available Elsewhere | 2.750
For Economic Injury:
Non-Profit Organizations without Credit Available Elsewhere | 2.750

The number assigned to this disaster for physical damage is 160336 and for economic injury is 160340.

(Catalog of Federal Domestic Assistance Number 59008)

James Rivera,
Associate Administrator for Disaster Assistance.

[FR Doc. 2019-15276 Filed 7-17-19; 8:45 am]

BILLING CODE 8026-03-P